DEPARTMENT OF AGRICULTURE

Forest Service

Black Hills National Forest Advisory Board Public Meeting Dates Announced

AGENCY: Forest Service, USDA.

ACTION: Notice of meetings.

SUMMARY: The Black Hills National Forest Advisory Board (NFAB) has announced its meeting dates for the remainder of 2005. These meetings are open to the public, and public comment is accepted at any time in writing and during the last 15 minutes of each meeting for spoken comments. Persons wishing to speak are give three minutes to address the Board.

Meeting dates are:

June 15

July 20

August 17

September 21

October 19

November 16

December 14

January 4, 2006

ADDRESSES: Meetings will be given at 1 PM and end no later than 5 PM at the West River Ag Center, 1905 Plaza Boulevard, Rapid City, SD 57731.

Agendas: The Board will consider a variety of issues related to national forest management. Agendas will be announced in advance in the news media but principally concern travel management, fire and insect problems, invasive species, and forest fragmentation.

FOR FURTHER INFORMATION CONTACT: Frank Carroll, Black Hills National Forest, 25041 North Highway 16, Custer, SD 57730, (605) 673-9200.

Dated: May 11, 2005.
Marisue Hilliard,
Acting Forest Supervisor.

[FR Doc. 05-9877 Filed 5-17-05; 8:45 am]

BILLING CODE 3410-11-M